DEPARTMENT OF DEFENSE

Office of the Secretary

[Docket ID: DoD-2018-OS-0068]

Privacy Act of 1974; System of Records

AGENCY: Office of the Secretary, DoD.

ACTION: Rescindment of a system of records notice.

SUMMARY: The Office of the Secretary of Defense (OSD) proposes to rescind a system of records, PEGASYS CARDKEY, DWHS D02. This system was used to maintain a list of individuals granted room access to areas of the Pentagon temporarily under the control of Washington Headquarters Services (WHS).

DATES: This action will be effective September 27, 2018. This system was decommissioned on June 30, 2014 when the Pentagon Force Protection Agency (PFPA) accepted access control responsibility for these areas. The Pentagon Facilities Access Control System, DPFPA 01 applies to those individuals who continue to require access to these spaces.

FOR FURTHER INFORMATION CONTACT:

Ms. Luz D. Ortiz, Chief, Records, Privacy and Declassification Division (RPDD), 1155 Defense Pentagon, Washington, DC 20301-1155, or by phone at (571) 372-0478.

SUPPLEMENTARY INFORMATION: This system of records was temporary and was decommissioned on June 30, 2014 when responsibility for access and security for wedge 1, corridors 3 and 4 at the Pentagon were transferred to PFPA. Continued access by personnel originally covered by PEGASYS CARDKEY is now addressed by the Pentagon Facilities Access Control System, DPFPA 01 (May 13, 2011, 76 FR 28001).

The Office of the Secretary of Defense system of records notices subject to the Privacy Act of 1974, as amended, have been published in the Federal Register and are available from the address in the FOR FURTHER INFORMATION CONTACT section or at the Defense Privacy, Civil Liberties, and Transparency Division website at http://defense.gov/privacy. The proposed systems reports, as required by the Privacy Act of 1974, as amended, were submitted on August 9, 2018, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

PEGASYS CARDKEY, DWHS D02

HISTORY:

November 14, 2011, 76 FR 70425; March 18, 2010, 75 FR 13088.

Dated: September 20, 2018.
Shelly E. Finke,
Alternate OSD Federal Register, Liaison Officer, Department of Defense.

[FR Doc. 2018-21082 Filed 9-26-18; 8:45 am]

BILLING CODE 5001-06-P